DEPARTMENT OF THE INTERIOR

Fish and Wildlife Service

[FWS-R3-MB-2009-N149] [30120-1113-0000-D3]

Information Collection Sent to the Office of Management and Budget (OMB) for Approval; Bald Eagle Post-delisting Monitoring

AGENCY: Fish and Wildlife Service, Interior.

ACTION: Notice; request for comments.

SUMMARY: We (Fish and Wildlife Service, Service) have sent an Information Collection Request (ICR) to OMB for review and approval. The ICR, which is summarized below, describes the nature of the collection and the estimated burden and cost. We may not conduct or sponsor and a person is not required to respond to a collection of information unless it displays a currently valid OMB control number.

DATES: You must send comments on or before August 21, 2009.

ADDRESSES: Send your comments and suggestions on this information collection to the Desk Officer for the Department of the Interior at OMB-OIRA at (202) 395-5806 (fax) or OIRA_DOCKET@OMB.eop.gov (e-mail). Please provide a copy of your comments to Hope Grey, Information Collection Clearance Officer, Fish and Wildlife Service, MS 222-ARLSQ, 4401 North Fairfax Drive, Arlington, VA 22203 (mail) or hope_grey@fws.gov (e-mail).

FOR FURTHER INFORMATION CONTACT: To request additional information about this ICR, contact Hope Grey by mail or e-mail (see ADDRESSES) or by telephone at (703) 358-2482.

SUPPLEMENTARY INFORMATION:

OMB Control Number: None. This is a new collection.

Title: Bald Eagle Post-delisting Monitoring.

Type of Request: New.

Affected Public: States, tribes, and local governments, Federal land managers, and nongovernmental partners.

Respondent's Obligation: Voluntary.

Frequency of Collection: Once every 5 years.

Note: For each 5-year survey, we estimate a total of 48 respondents will provide 48 responses totaling 1,478 burden hours. The burden estimates below are annualized over the 3-year period of OMB approval.

Estimated Annual Number of Respondents: 16.

Estimated Total Annual Responses: 16.

Estimated Time per Response: 30.8 hours.

Estimated Total Annual Burden Hours: 493.

Abstract: This information collection implements the requirements of the Endangered Species Act (16 U.S.C. 1531 et seq.) (ESA). The bald eagle in the lower 48 States was removed from the List of Endangered and Threatened Wildlife on August 8, 2007 (July 9, 2007, 72 FR 37346). Section 4(g) of the ESA requires that all species that are recovered and removed from the List of Endangered and Threatened Wildlife (delisted) be monitored in cooperation with the States for a period of not less than 5 years. The purpose of this requirement is to detect any failure of a recovered species to sustain itself without the protections of the ESA.

The bald eagle has a large geographic distribution that includes a substantial amount of non-Federal land. Although the ESA requires that monitoring of recovered species be conducted for not less than 5 years, the life history of bald eagles is such that it is appropriate to monitor this species for a longer period of time in order to meaningfully evaluate whether or not the recovered species continues to maintain its recovered status.

We plan to monitor the status of the bald eagle by collecting data on occupied nests over a 20-year period with sampling events held once every 5 years. The Post-delisting Monitoring Plan for the Bald Eagle (Plan) describes monitoring procedures and methods.

When OMB takes action on this ICR, we will publish a notice in the Federal Register announcing the availability of the final Plan. If you would like a copy of the Plan before the notice of availability is published, contact Hope Grey (see ADDRESSES) or you can obtain a copy online at http://www.reginfo.gov.

Comments: On July 9, 2007, we published a notice of availability for the draft Plan in the Federal Register (72 FR 37373). We solicited comments for a period of 90 days, ending on October 9, 2007. In addition, in the fall of 2007, we gave two web presentations for State biologists. These presentations focused on the survey and data collection methods. We considered all comments from the Federal Register notice and the web presentations and addressed them in the Plan.

Comment: Adequate funding for monitoring has not been identified.

Response: The Service will fund the area frame surveys for the initial baseline survey, including the use of aircraft and pilots to complete the surveys. We will continue to work with the States, tribes, and our other partners to secure funding for future surveys.

Comment: Five-year intervals between monitoring are insufficient.

Response: In order to assess several generations of bald eagles after delisting, this Plan recommends monitoring bald eagle nesting populations at 5-year intervals (which would follow the development cycle to maturity for one generation) for four generations or a total of 20 years. This exceeds the requirements of the ESA. Many States monitor bald eagle nests on an annual basis because the surveys provide valuable resource data. Some States have indicated that their future bald eagle monitoring will be greatly reduced due to its recovery and the need to allocate funding to other areas. Thus, 5-year survey intervals will provide more data for States where surveys are not otherwise planned. It may also provide a cost savings for other States if they can use these data at 5-year intervals to satisfy their needs.

Comment: Twenty-five percent decline is too large of an interval to serve as a trigger mechanism for review.

Response: The goal of the Plan is to detect a 25-percent or greater change in occupied bald eagle nests over any period, measured at 5-year intervals based on an 80 percent chance of detecting such a change. We believe this is a goal that both ensures continued recovery under the ESA and is cost-effective. If a 25-percent decline is detected, it means a reduction to a level still recognized as recovered under the ESA. If such declines are detected, we, in conjunction with the States, will investigate causes of those declines. At the end of the 20-year monitoring program, we will coordinate with States and our other partners to conduct a final review and provide recommendations to ensure a properly managed population of the recovered bald eagle.

Comment: Implementation involves potential sampling bias due to variable observer experience and familiarity with nesting territories.

Response: We have structured training, pre-survey preparation, and survey protocols to minimize potential sampling bias. Though experienced bald eagle observers may be familiar with specific nests, pilot studies showed that the observers were able to change mindsets from “searching habitat” in Area plots to “determining the status of specific known list nests” in List plots, without issue. Using the dual-observer method to determine individual detection probabilities for observers will help account for differences in observer experience. In planning Area plots survey routes, observers will be given maps that show habitat, but not the location of nests, allowing survey route planning to be based on habitat characteristics.

Comment: Conducting a large-scale monitoring project every 5 years could create staffing problems.

Response: Staffing will require open and clear communication among the States, tribes, and the Service. If State staff are not available for surveys, we will draw upon local Service offices, tribal biologists, retired Service and State employees, and experienced volunteers to fill in as observers.

Comment: There is a lack of a comprehensive monitoring program for environmental contaminants.

Response: We worked with the U.S. Geological Survey to develop a searchable database/library dedicated to contaminants investigations of bald eagle, osprey, and peregrine falcons. The objective was to create a readily available source of information to consider should the bald eagle (or peregrine) population decline. This database provides biologists an overview of the most recent findings of contaminant effects on these species. If additional studies are needed during post-delisting monitoring, the database will clarify what has been studied and what has not.

Comment: The phrase “broad geographic areas” in the section on Habitat implies that the analysis of survey data may be accomplished on something less than a rangewide scale.

Response: This is correct. If trends in nest occupancy significantly decline over broad geographic areas, whether rangewide or more regionally, we will investigate a change in available nesting habitat as a possible cause and take appropriate actions, as feasible.

Comment: Customized parameters may be required in certain local situations.

Response: We agree and have modified the Plan accordingly.

Comment: The definition of bald eagle habitat in the Plan, especially the size of water bodies required, may not be appropriate for some geographic regions, especially the Southwest.

Response: We modified the Plan to reflect that local conditions may warrant modifications to the habitat being considered. Input from local eagle biologists will be necessary in these unique or localized conditions.

Comment: Surveys based on Bird Conservation Regions (BCRs) will not work in some States (e.g., eagle distribution is linear and follows major waterways which cross multiple BCRs).

Response: We recognize some of the limitations of this approach, but still maintain it is the most appropriate for application across broad geographic areas. We will work with local biologists to further refine the stratification on a local level.

Comment: The boundary between the Northern Pacific Rainforest BCR and the Great Basin BCR, although correctly mapped in the Plan, is an incorrect depiction of the margin between the two ecoregions. This has resulted in inappropriate numbers being used in calculations of nests in the BCR tables in the Plan.

Response: We have modified this portion of the Plan to reflect that we will work with local biologists and others to further refine the BCR boundaries to more accurately reflect habitat groupings and, as appropriate, modify calculations of nests and nest densities per BCR.

We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: June 23, 2009
Hope Grey,
Information Collection Clearance Officer, Fish and Wildlife Service.

FR Doc. E9-17387 Filed 7-21-09; 8:45 am

BILLING CODE 4310-55-S